OVERSEAS PRIVATE INVESTMENT CORPORATION

Sunshine Act Meeting; Africa Investment Advisory Council Meeting

time and date: Monday, June 21, 2004, 9:30 a.m. (Open Portion); 9:45 a.m. (Closed Portion).

place: Offices of the Corporation, Twelfth Floor Europe Room, 1100 New York Avenue, NW., Washington, DC.

status: Meeting Open to the Public from 9:30 a.m. to 9:45 a.m. Closed portion will commence at 9:45 a.m. (approx.).

matters to be considered: 1. Welcome and Introductory Remarks.

further matters to be considered: (Closed to the Public 9:45 a.m.)

1. Administrative Issues.

2. Reports.

contact person for information: Information on the meeting may be obtained form Marysue K. Shore at (202) 336-8630.

Dated: May 24, 2004.
Connie M. Downs,
Corporate Secretary.

[FR Doc. 04-12023 Filed 5-24-04; 12:55 pm]

BILLING CODE 3210-07-M